DEPARTMENT OF HOMELAND SECURITY

Federal Emergency Management Agency

[Docket ID FEMA-2017-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of June 21, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: February 16, 2017.
Roy E. Wright,
Deputy Associate Administrator for Insurance and Mitigation, Department of Homeland Security, Federal Emergency Management Agency.

I. Non-watershed-based studies:

Community | Community map repository address
Humboldt County, California and Incorporated Areas
Docket No.: FEMA-B-1604
City of Arcata | Department of Public Works, 736 F Street, Arcata, CA 95521.
City of Eureka | City Hall, 531 K Street, Eureka, CA 95501.
City of Trinidad | City Hall, 409 Trinity Street, Trinidad, CA 95570.
Unincorporated Areas of Humboldt County | Clark Complex, 3015 H Street, Eureka, CA 95501.
Monterey County, California and Incorporated Areas
Docket No.: FEMA-B-1604
City of Carmel by the Sea | City Hall, Monte Verde Street, Carmel by the Sea, CA 93921.
City of Marina | Public Works Department, 209 Cypress Avenue, Marina, CA 93933.
City of Monterey | Plans and Public Works Department, 526 Pierce Street, Monterey, CA 93940.
City of Pacific Grove | City Hall, 300 Forest Avenue, Pacific Grove, CA 93950.
City of Sand City | Planning Department, 1 Sylvan Park, Sand City, CA 93955.
City of Seaside | Public Works Department, 440 Harcourt Avenue, Seaside, CA 93955.
Unincorporated Areas of Monterey County | Monterey County Water Resources Agency, 893 Blanco Circle, Salinas, CA 93901.
Washington County, Indiana and Incorporated Areas
Docket No.: FEMA-B-1558
City of Salem | Salem City Hall, Department of Building and Safety, Suite 104, 201 East Market Street, Salem, IN 47167.
Town of Little York | Washington County Building Department, 600 Anson Street, Salem, IN 47167.
Town of New Pekin | Pekin Town Hall, 75 South Mill Street, Pekin, IN 47165.
Unincorporated Areas of Washington County | Washington County Building Department, 600 Anson Street, Salem, IN 47167.
Madison County, Iowa and Incorporated Areas
Docket No.: FEMA-B-1604
City of Earlham | City Hall, 140 South Chestnut Avenue, Earlham, IA 50072.
City of East Peru | Community Building, 120 Brown Street, East Peru, IA 50222.
City of Patterson | City Clerk's Office, 1730 110th Avenue, Murray, IA 50174.
City of St. Charles | City Hall, 113 South Lumber Street, St. Charles, IA 50240.
City of Truro | City Hall, 120 East Center Street, Truro, IA 50257.
City of Winterset | City Hall, 124 West Court Avenue, Winterset, IA 50273.
Unincorporated Areas of Madison County | Madison County Courthouse, 112 North John Wayne Drive, Winterset, IA 50273.

[FR Doc. 2017-04230 Filed 3-3-17; 8:45 am]

BILLING CODE 9110-12-P